DEPARTMENT OF ENERGY

Federal Energy Regulatory Commission

[Docket Nos. RM07-16-000 and RM01-5-000]

Revised Information Collection Activities (FERC-545, FERC-549, and FERC-550); Comment Request

AGENCY: Federal Energy Regulatory Commission, DOE.

ACTION: Request for comment.

SUMMARY: The Federal Energy Regulatory Commission (Commission or FERC) is submitting three information collections to the Office of Management and Budget (OMB) for review of the changes to the information collection requirements relating to the application of the Commission's revised Company Registration procedures to interstate and intrastate natural gas pipelines and interstate oil pipelines. The Commission issued a Notice in the Federal Register, 78 FR 10,614 (February 14, 2013), requesting public comments by April 15, 2013. FERC received no comments and is making this notation in its submittal to OMB.

DATES: Comments regarding the revised information collections must be received on or before May 31, 2013.

ADDRESSES: Comments filed with OMB should be identified with the OMB Control Nos. 1902-0154 (FERC-545), 1902-0086 (FERC-549), and 1902-0089 (FERC-550) and should be sent via email to the Office of Information and Regulatory Affairs: oira_submission@omb.gov. Attention: Federal Energy Regulatory Commission Desk Officer. The Desk Officer may also be reached via telephone at 202-395-4718. A copy of the comments should also be sent to the Federal Energy Regulatory Commission, identified by the Docket Nos. RM07-16 and RM01-5, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

FOR FURTHER INFORMATION CONTACT: Ellen Brown, by email at DataClearance@FERC.gov, telephone at (202) 502-8663, and fax at (202) 273-0873.

SUPPLEMENTARY INFORMATION: The revisions to these collections of information relate to the application of the Commission's revised Company Registration procedures to interstate and intrastate natural gas pipelines and interstate oil pipelines.

These procedures will replace the use of random-number generated passwords to authenticate access to a company registration account with a superior method of authentication. Under the revised procedures, each regulated natural gas pipeline and oil pipeline will be able to maintain a list of eRegistered agents whom the pipeline has authorized to submit a particular type of filing. Implementation of these changes will provide increased flexibility for regulated entities to manage their company registration accounts and to designate agents to make filings at the Commission. These changes also will reduce the need for pipelines to institute measures to protect password integrity, including the need to request new passwords if existing passwords are compromised.¹ At the conference on April 16, 2013, Commission staff made a presentation on the proposed changes. The Staff presentation and instructional video, are available on the Commission's Web site.² The first filings under the revised company registration system are scheduled to be made beginning no sooner than 7/12/2013.

¹ A general description of the procedures can be found in the Commission's order in Filing Via the Internet, Docket Nos. RM07-16-000 and RM01-5-000, 142 FERC ¶ 61,097 (2013) (http://elibrary.ferc.gov/idmws/common/OpenNat.asp?fileID=13174100) and in Revisions to Electric Quarterly Report Filing Process, Order No. 770, 77 Fed. Reg. 71,288 (Nov. 30, 2012), FERC Stats. & Regs. ¶ 31,338, at PP 30 and 33-36 (2012) (Docket No. RM12-3-000). On March 8, 2013, the Commission issued a Notice of Technical Conference in this proceeding, available at http://elibrary.ferc.gov/idmws/common/opennat.asp?fileID=13199806.

² See http://www.ferc.gov/EventCalendar/Files/20130412144329-CompanyRegistrationPresentation.pdf and http://www.ferc.gov/docs-filing/etariff/company-reg/company-reg-04-16-13.htm.

OMB's regulations ³ require approval of certain information collection requirements that impose identical reporting or recordkeeping requirements on ten or more persons. Without consideration of potential cost savings in reduced password management and requests for new passwords, the one-time burden on interstate and intrastate natural gas and oil pipelines to transition to the revised system is estimated to be one hour per respondent at a cost of $35.99/hour for support staff.⁴

³ 5 CFR 1320 (2012).

⁴ The estimated burden on electric utilities for compliance with this requirement was included in Order No. 770, 77 FR 71,288 (Nov. 30, 2012), FERC Stats. & Regs. ¶ 31,338, at PP 58-62 (2012) (Docket No. RM12-3-000) and is incorporated in FERC-920, Electric Quarterly Report, OMB Control No. 1902-0255. Those reporting requirements are currently pending review at OMB in ICR No. 201302-1902-003.

Information Collection Costs: The Commission estimates the average annual burden and cost of compliance with these regulations to be the following: ⁵

⁵ The estimated number of respondents and related totals for hours and cost have been updated since the Notice issued on 2/8/2013 (at http://elibrary.ferc.gov/idmws/common/opennat.asp?fileID=13174410).

Data collection | Number of respondents ⁶ | Hours per response (1 response per respondent) | Total hours | Total cost ⁷
FERC-545—NGA Pipelines | 169 | 1 | 169 | $6,082
FERC-549—NGPA Pipelines | 107 | 1 | 107 | 3,851
FERC-550—Oil Pipelines | 193 | 1 | 193 | 6,946

We estimate that pipelines will have the initial implementation burden of one hour and may annually review or make revisions to their list of designated agents. The total annual burden and cost for all of the 469 respondents (for FERC-545, -549, and -550) for this requirement are: 469 hours or $16,879.

⁶ As of April 5, 2013.

⁷ Hourly average cost ($35.99/hour) was calculated using Bureau of Labor Statistics (BLS), Occupational Employment Statistics data for May 2011 (for NAICS 221100—Electric Power Generation, Transmission and Distribution, at http://bls.gov/oes/current/naics4_221100.htm#00-0000) for the support staff.

Title: FERC-545, Gas Pipeline Rates: Rate Change (Non-Formal), OMB Control No. 1902-0154; FERC-549, Gas Pipeline Rates: NGPA Title III Transactions and Part 341, OMB Control No. 1902-0086; and FERC-550, Oil Pipeline Rates: Tariff Filings, OMB Control No. 1902-0089.

Action: Revised and new company registration information requirements.

Respondents: Interstate and intrastate natural gas pipelines and interstate oil pipelines.

Frequency of Responses: One-time initial implementation and periodic updates as needed.

Need for Information: The changes are being implemented to enhance the security of natural gas and oil pipelines' company registration accounts and to provide pipelines with an enhanced ability to manage filing permissions.

Internal Review: We have reviewed the changes and determined that the changes are necessary, conforming to the Commission's need for efficient information collection, communication, and management within the energy industry. We have assured ourselves, by means of internal review, that there is specific, objective support for the burden estimates associated with the information collection requirements.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 25, 2013.
Kimberly D. Bose,
Secretary.

[FR Doc. 2013-10258 Filed 4-30-13; 8:45 am]

BILLING CODE 6717-01-P